DEPARTMENT OF ENERGY

Federal Energy Regulatory Commission

[Docket Nos. EY05-14-001, RM01-10-000 and EY05-13-000]

Standards of Conduct for Transmission Providers and Entergy Services, Inc.; Notice Granting Extension of Waiver of Recordkeeping Requirements

September 16, 2005.

Due to the emergency conditions in the Gulf Coast area of the United States created by Hurricane Katrina, on August 31, 2005, the Commission issued a notice that, among other things, allowed affected transmission providers to delay, until September 30, 2005, compliance with the requirement of section 358.4(a)(2) of the Commission's regulations, 18 CFR 358.4(a)(2)(2005), to report to the Commission and post on the OASIS or Internet Web site, as applicable, each emergency that resulted in any deviation from the standards of conduct.¹

¹ Notice Granting Extension Of Time To Comply With Posting And Other Requirements, Standards of Conduct for Transmission Providers, Docket No. EY05-14-000, et al. (August 31, 2005).

Due to the extreme nature of the emergency, the Commission also waived, on September 7, 2005, the requirement to record and retain a record of each deviation of the standards of conduct, until September 16, 2005.² The notice added that “[t]he Commission [would] consider extending the waiver if it continues to be needed after that date.”

² Notice Waiving Recordkeeping Requirements, Standards of Conduct for Transmission Providers, Docket Nos. EY05-14-001 and RM01-10-000 (September 7, 2005).

Entergy Services, on behalf of Entergy Operating Companies, seeks a two-week extension, through September 30, 2005, of the waiver of the requirement that Entergy record a log of each individual deviation from the standards of conduct associated with the information sharing and joint operations activities necessitated by the hurricane. It explains that due to the extreme flooding and damage caused by the hurricane in the City of New Orleans and the Amite-South area, it continues to experience emergency circumstances affecting system reliability, including a previously-unseen stability limit. These circumstances, according to Entergy, require detailed communication, coordination and joint operations among Entergy's transmission and merchant units on virtually an hourly basis and the requirement to log each individual deviation would be an extremely burdensome task that would complicate Entergy's restoration operation. Entergy proposes to limit the application of the waiver to deviations associated with information sharing and joint operations activities necessitated by Hurricane Katrina, but would not apply to deviations from standard OATT practices.

The Commission grants Entergy's request for this limited waiver under these emergency circumstances.

Magalie R. Salas,
Secretary.

[FR Doc. E5-5214 Filed 9-27-05; 8:45 am]

BILLING CODE 6717-01-P